FEDERAL COMMUNICATIONS COMMISSION

47 CFR Part 76

[MM Docket Nos. 92-266 and 93-215, FCC 94-286]

Cable Television Act of 1992

AGENCY: Federal Communications Commission.

ACTION: Final rule; announcement of effective date.

SUMMARY: This document announces the effective date of rules published in the Federal Register on December 6, 1994. The final rules revised to provide cable operators with additional incentives to expand their facilities and services in a way that both ensures that cable rates are reasonable and expands the opportunities for cable programmers to reach viewers.

DATES: The amendments to 47 CFR 76.922(e)(1) and (2) published in the Federal Register at 59 FR 62614, December 6, 1994, are effective February 21, 2013.

FOR FURTHER INFORMATION CONTACT: For additional information contact John Norton, 202-418-2120, Media Bureau, Policy Division.

SUPPLEMENTARY INFORMATION: In a Sixth Order on Reconsideration and Fifth Report and Order in MM Docket Nos. 92-266 and 93-215; FCC 94-286, published in the Federal Register, 59 FR 62614, December 6, 1994, the Commission adopted rules which contained information collection requirements subject to the Paperwork Reduction Act. The document stated that the rule changes requiring OMB approval would become effective after OMB approval and announcement in the Federal Register. On February 21, 1995, the Office of Management and Budget (OMB) approved the information collection requirements contained in 47 CFR 76.922(e)(1) and (2). The information collection is assigned to OMB Control No. 3060-0607.

Federal Communications Commission.
Marlene H. Dortch,
Secretary.

[FR Doc. 2013-03932 Filed 2-20-13; 8:45 am]

BILLING CODE 6712-01-P